DEPARTMENT OF HOMELAND SECURITY

Federal Emergency Management Agency

[Docket ID: FEMA-2011-0035; OMB No. 1660-0008]

Agency Information Collection Activities: Proposed Collection; Comment Request, Elevation Certificate/Floodproofing Certificate

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Elevation Certificate and the Floodproofing Certificate for Non-Residential Structures.

DATES: Comments must be submitted on or before January 20, 2012.

ADDRESSES: To avoid duplicate submissions to the docket, please use only one of the following means to submit comments:

(1) Online. Submit comments at www.regulations.gov under Docket ID FEMA-2011-0035. Follow the instructions for submitting comments.

(2) Mail. Submit written comments to Docket Manager, Office of Chief Counsel, DHS/FEMA, 500 C Street SW., Room 835, Washington, DC 20472-3100.

(3) Facsimile. Submit comments to (703) 483-2999.

(4) Email. Submit comments to FEMA-POLICY@dhs.gov. Include Docket ID FEMA-2011-0035 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mary Ann Chang, Insurance Examiner, Mitigation Division, (703) 605-0421 for additional information. You may contact the Records Management Division for copies of the proposed collection of information at facsimile number (202) 646-3347 or email address: FEMA-Information-Collections-Management@dhs.gov.

SUPPLEMENTARY INFORMATION: The National Flood Insurance Program (NFIP) requires the elevation or floodproofing of new or substantially improved structures in designated Special Flood Hazard Areas. As part of the agreement for making flood insurance available in a community, the NFIP requires the community to adopt a floodplain management ordinance that meets or exceeds the minimum requirements of the NFIP. Title 44 CFR 61.7 and 61.8 require proper investigation to estimate the risk premium rates necessary to provide flood insurance.

Collection of Information

Title: Elevation Certificate/Floodproofing Certificate.

Type of Information Collection: Revision of a currently approved collection.

OMB Number: 1660-0008.

Form Numbers: FEMA Form 81-31, Elevation Certificate, FEMA Form 81-65, Floodproofing Certificate.

Abstract: The Elevation Certificate and Floodproofing Certificate are used in conjunction with the application for flood insurance. The certificates are required for properly rate post Flood Insurance Rate Map (FIRM) structures, which are buildings constructed after the publication of the initial FIRM or December 31, 1974, for flood insurance in Special Flood Hazard Areas. In addition, the Elevation Certificate is needed for pre-FIRM structures, which are buildings constructed before the initial FIRM or December 31, 1974, that are being rated under post-FIRM flood insurance rules. The certificates provide community officials and others standardized documents to readily record needed building elevation information. NFIP policyholders/applicants provide the appropriate certificate to insurance agents. The certificate is then used in conjunction with the insurance application so that the building can be properly rated for flood insurance.

Affected Public: Individuals and households, business or other for-profit, State, local or Tribal Government.

Number of Respondents: 6,575.

Number of Responses: 6,575.

Estimated Total Annual Burden Hours: 24,649 hours.

Estimated Cost: The estimated cost to respondents for purchasing professional services required to complete the certificates is $1,251,250.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-29946 Filed 11-18-11; 8:45 am]

BILLING CODE 9110-11-P